DEPARTMENT OF COMMERCE

International Trade Administration

[A-570-867]

Extension of Time Limit for the Preliminary Results of the Antidumping Duty Administrative Review: Automotive Replacement Glass Windshields from the People's Republic of China

AGENCY: Import Administration, International Trade Administration, Department of Commerce.

EFFECTIVE DATE: March 22, 2005.

FOR FURTHER INFORMATION CONTACT: Jon Freed or Will Dickerson, Import Administration, International Trade Administration, U.S. Department of Commerce, 14th Street and Constitution Avenue, NW, Washington, DC 20230; telephone: (202) 482-3818, or 482-1778, respectively.

Background

On May 27, 2004, the Department published in the Federal Register a notice of the initiation of the antidumping duty administrative review of automotive replacement glass windshields from the People's Republic of China for the period April 1, 2003, through March 31, 2004. See Initiation of Antidumping and Countervailing Duty Administrative Reviews and Request for Revocation in Part, 69 FR 30282 (May 27, 2004). On October 12, 2004, the Department published in the Federal Register a notice rescinding the administrative review of two companies which had withdrawn their requests for reviews. See Notice of Partial Rescission of the Antidumping Duty Administrative Review: Certain Automotive Replacement Glass Windshields from the People's Republic of China, 69 FR 60612 (October 12, 2004). On December 3, 2004, the Department published in the Federal Register a notice extending the time limit for the preliminary results of the administrative review from December 31, 2004, to March 31, 2005. See Extension of Time Limit for the Preliminary Results of the Antidumping Duty Administrative Review: Automotive Replacement Glass Windshields from the People's Republic of China, 69 FR 70224 (December 3, 2004). The preliminary results of review are currently due no later than March 31, 2005.

Extension of Time Limit of Preliminary Results

Section 751(a)(3)(A) of the Tariff Act of 1930, as amended (“the Act”), states that, if it is not practicable to complete the review within the time specified, the administering authority may extend the 245-day period to issue its preliminary results by up to 120 days. Completion of the preliminary results of this review within the 245-day period is not practicable because the Department needs additional time to analyze a significant amount of information pertaining to verification of one company's questionnaire responses and to review supplemental questionnaire responses of a second company.

Because it is not practicable to complete this review within the time specified under the Act, we are extending the time limit for issuing the preliminary results of review by an additional 30 days, in accordance with section 751(a)(3)(A) of the Act. Therefore, as 30 days from March 31, 2005, falls on a Saturday, the preliminary results are now due on May 2, 2005, the next business day. The final results of review continue to be due 120 days after the date of publication of the preliminary results.

Dated: March 15, 2005.
Barbara E. Tillman,
Acting Deputy Assistant Secretary for Import Administration.

[FR Doc. E5-1249 Filed 3-21-05; 8:45 am]

BILLING CODE 3510-DS-S